FEDERAL COMMUNICATIONS COMMISSION

[FR ID 32898]

Open Commission Meeting Thursday, June 17, 2021

The Federal Communications Commission will hold an Open Meeting on the subjects listed below on Thursday, June 17, 2021, which is scheduled to commence at 10:30 a.m.

Due to the current COVID-19 pandemic and related agency telework and headquarters access policies, this meeting will be in a wholly electronic format and will be open to the public on the internet via live feed from the FCC's web page at www.fcc.gov/live and on the FCC's YouTube channel.

Item No. | Bureau | Subject
1 | OFFICE OF ENGINEERING AND TECHNOLOGY AND OFFICE OF ECONOMICS AND ANALYTICS | TITLE: Protecting Against National Security Threats to the Communications Supply Chain through the Equipment Authorization (ET Docket No. 21-232) and Competitive Bidding Programs (EA Docket No. 21-233). SUMMARY: The Commission will consider a Notice of Proposed Rulemaking and Notice of Inquiry seeking comments on steps it could take to secure the nation's critical communications networks through its equipment authorization and competitive bidding programs.
2 | OFFICE OF ENGINEERING AND TECHNOLOGY | TITLE: Allowing Earlier Equipment Marketing and Importation Opportunities (ET Docket No. 20-382). SUMMARY: The Commission will consider a Report and Order that would adopt changes to the equipment authorization rules to allow expanded marketing and importation of radiofrequency devices prior to certification, with conditions.
3 | PUBLIC SAFETY AND HOMELAND SECURITY | TITLE: Improving the Emergency Alert System (PS Docket No. 15-94) and Wireless Emergency Alerts (PS Docket No. 15-91). SUMMARY: The Commission will consider a Report and Order and Further Notice of Proposed Rulemaking to implement section 9201 of the National Defense Authorization Act for Fiscal Year 2021, which is intended to improve the way the public receives emergency alerts on their mobile phones, televisions, and radios.
4 | ENFORCEMENT | TITLE: Improving Robocall and Spoofing Input from Private Entities (EB Docket No. 20-374). SUMMARY: The Commission will consider a Report and Order to implement Section 10(a) of the TRACED Act by adopting a streamlined process that will allow private entities to alert the FCC's Enforcement Bureau about suspected unlawful robocalls and spoofed caller ID.
5 | WIRELINE COMPETITION | TITLE: Promoting Telehealth for Low-Income Consumers (WC Docket No. 18-213). SUMMARY: The Commission will consider a Second Report and Order that would provide guidance on the administration of the Connected Care Pilot Program and further instructions to program participants.
6 | WIRELESS TELECOMMUNICATIONS | TITLE: Exploring Spectrum Options for Devices Used to Mark Fishing Equipment (WT Docket No. 21-230). SUMMARY: The Commission will consider a Notice of Proposed Rulemaking that would satisfy the Commission's statutory obligation in Section 8416 of the National Defense Authorization Act for Fiscal Year 2021 to initiate a rulemaking proceeding to explore whether to authorize devices that can be used to mark fishing equipment for use on Automatic Identification System (AIS) channels consistent with the core purpose of the AIS to prevent maritime accidents.
7 | MEDIA | TITLE: Improving Low Power FM Radio (MB Docket No. 19-193). SUMMARY: The Commission will consider an Order on Reconsideration of a proceeding to modernize the LPFM technical rules.
8 | ENFORCEMENT | TITLE: Enforcement Bureau Action. SUMMARY: The Commission will consider an enforcement action.
* * * * * * *

The meeting will be webcast with open captioning at: www.fcc.gov/live. Open captioning will be provided as well as a text only version on the FCC website. Other reasonable accommodations for people with disabilities are available upon request. In your request, include a description of the accommodation you will need and a way we can contact you if we need more information. Last minute requests will be accepted but may be impossible to fill. Send an email to: fcc504@fcc.gov or call the Consumer & Governmental Affairs Bureau at 202-418-0530.

Additional information concerning this meeting may be obtained from the Office of Media Relations, (202) 418-0500. Audio/Video coverage of the meeting will be broadcast live with open captioning over the internet from the FCC Live web page at www.fcc.gov/live.

Federal Communications Commission.
Dated: June 10, 2021.
Cecilia Sigmund,
Federal Register Liaison Officer, Office of the Secretary.

[FR Doc. 2021-12727 Filed 6-16-21; 8:45 am]

BILLING CODE 6712-01-P